NUCLEAR REGULATORY COMMISSION

[Docket No. 50-263]

Northern States Power Company, Monticello Nuclear Generating Plant; Environmental Assessment and Finding of No Significant Impact

The U.S. Nuclear Regulatory Commission (NRC) is considering issuance of an exemption from 10 CFR 55.59 for Facility Operating License No. DPR-22, issued to Northern States Power Company (NSP or the licensee), for operation of the Monticello Nuclear Generating Plant, located in Wright County at the licensee's site in Wright and Sherbourne Counties, Minnesota.

Environmental Assessment

Identification of the Proposed Action

The proposed action would allow the licensed operator requalification examinations for the Monticello Nuclear Generating Plant to be rescheduled after the current refueling outage. The requested exemption would extend the completion date for the examinations from March 9, 2000, to May 12, 2000.

The proposed action is in accordance with the licensee's application for exemption dated January 19, 2000.

The Need for the Proposed Action

The proposed action is needed to provide a one-time extension of the requalification program duration from March 9, 2000, to May 12, 2000. The proposed action is needed due to the delay in completing the examinations for the current requalification cycle because of (1) an unplanned outage in addition to two planned outages, (2) a delayed start of the second refuling outage, and (3) mid-cycle training program enhancements.

Environmental Impacts of the Proposed Action

The NRC has completed its evaluation of the proposed action and concludes that the exemption will not endanger life or property and is otherwise in the public interest.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no action” alternative). Denial of the application would result in no change in current environmental impacts. The environmental impacts of the proposed action and the alternative action are similar.

Alternative Use of Resources

This action does not involve the use of any resources not previously considered in the Final Environmental Statement for the Monticello Nuclear Generating Plant.

Agencies and Persons Consulted

In accordance with its stated policy, on February 9, 2000, the staff consulted with the Minnesota State official, Ms. J. Peterson of the Department of Commerce, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 19, 2000, which is available for public inspection at the Commission's Public Document Room, The Gelman Building, 2120 L Street, NW., Washington, DC. Publicly available records will be accessible electronically from the ADAMS Public Library component on the NRC Web site, http:\\www.nrc.gov (the Electronic Reading Room).

For the Nuclear Regulatory Commission.
Dated at Rockville, Maryland, this 10th day of February, 2000.
Carl F. Lyon,
Project Manager, Section 1, Project Directorate III, Division of Licensing Project Management, Office of Nuclear Reactor Regulation.

[FR Doc. 00-3628 Filed 2-15-00; 8:45 am]

BILLING CODE 7590-01-P